DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 25, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program (SNAP) Forms: Applications, Periodic Reporting and Notices.

OMB Control Number: 0584-0064.

Summary of Collection: The Food and Nutrition Act of 2008 (the Act), requires verification of household eligibility for SNAP benefits, confirm household eligibility throughout participation in the program, and ensure that households receive the correct benefit amount. State agencies are responsible for determining the eligibility of applicant households and issuing benefits to those households entitled to benefits under the Act.

The Federal regulations for implementing these procedures are contained in Title 7 of the Code of Federal Regulations (CFR) in 7 CFR part 271, 7 CFR part 272, and 7 CFR part 273. Part 271 contains general information and definitions, Part 272 contains requirements for participating State agencies, and Part 273 contains procedures for the certification of eligible households.

SNAP Applications, Periodic Reporting and Notices: The information collected by State agencies and electively provided by households upon initial application and then recertification (an application to continue participation in the program after an initial period of eligibility) includes (PII), as well as information about various household circumstances, such as household size and income. Applications are available in electronic and paper format. Once electively provided by households, State agencies must verify application information provided to determine their SNAP eligibility and benefit amounts, and then conduct an interview with the applicant household. Interviews are conducted in person or over the telephone. The information requirements for recertification are similar. Households with regular earned income are generally required to recertify every 12 months, although the recertification period can be as little as one month, or as long as two years, based on their circumstances.

As part of the initial application and recertification process, State agencies are required to issue certain notices to households. This include notices when an application is denied, if an application is missing information, if a household misses their interview, if household benefits will soon expire, if household benefits will change, and when household benefits officially change. Notices provided by State agencies can be issued electronically or by paper.

Following initial certification or recertification, households are required to notify (FNS) of any changes to their household status on a quarterly basis, monthly basis, or whenever a change occurs based on the reporting options chosen by their State agency, in order to maintain SNAP benefits and eligibility. Most State agencies also use simplified or periodic reporting, which requires households to report only certain changes to their status during the certification period. All reporting requirements can be completed electronically or by paper.

Retention and Custody of Records. Under recordkeeping requirements, State agencies must maintain records to ascertain whether the program is administered in compliance with Federal statutes and regulations. State agencies must maintain case records of households participating in SNAP for a period of three years from the date of origin. In addition, State agencies must also maintain the ability to search household case records in order to prevent individuals from receiving benefits in more than one household, and to prevent households from receiving benefits in more than one jurisdiction (commonly referred to as “duplicate participation”). Records can be maintained using automated retrieval systems rather than paper records.

SNAP regulations (7 CFR 273.21) provide for a one month or two-month reporting option to determine SNAP eligibility and benefits of the affected households. This requires households and State agencies to conduct reporting more frequently than a quarterly basis. This monthly collection is necessary to ensure the integrity of the program and to meet regulatory requirements. FNS notes that while all State agencies have the option to use monthly reporting, only one State uses this reporting system, and the number of households subject to this reporting system within the State is small.

Need and Use of the Information: To determine initial and continued eligibility for SNAP, applicants must provide, and State agencies must verify, various information on household members, such as age, income, resources, allowable deductions, and Social Security Numbers (SSNs). This information must be collected to ensure households are eligible for SNAP, receive the correct benefit, and maintain eligibility for the program. This information collection is mandatory for State agencies that administer SNAP, as they are responsible for accepting applications from, and determining eligibility for, individuals and households that apply for SNAP. While a response is voluntary for households that apply for SNAP, it is required in order for them to obtain or maintain SNAP benefits from their State agency.

Description of Respondents: State, Local, Tribal Government, Individuals, Households.

Number of Respondents: 21,623,495.

Frequency of Responses: Recordkeeping; Reporting: Occasionally; Annually.

Total Burden Hours: 142,800,634.27.

Rachelle Ragland-Greene,
Acting Departmental Information Collection Clearance Officer.

[FR Doc. 2024-03749 Filed 2-22-24; 8:45 am]

BILLING CODE 3410-30-P